DEPARTMENT OF ENERGY

Long-Term Stewardship Study

AGENCY: Department of Energy.

ACTION: Notice of availability.

SUMMARY: The Department of Energy (DOE) announces the public availability of the final Long-Term Stewardship Study. The Study presents and discusses issues associated with the long-term stewardship of DOE sites where contaminated facilities, water, soil, and/or engineered units are likely to remain after cleanup activities are finished. The Study also provides DOE's responses to comments on the Draft Study. DOE prepared the Study in response to a settlement agreement.

ADDRESSES: You can obtain copies of the Study and other information related to long-term stewardship from the following sources:

• Long-Term Stewardship Information Center Internet site at the following address: www.em.doe.gov/lts.

• The Center for Environmental Management Information, 955 L'Enfant Plaza, North, SW., Suite 8200, Washington, DC 20024, 1-800-736-3282 (1-800-7EM-DATA). In Washington, DC, the phone number is 202-863-5084.

• DOE Reading Rooms (for locations of the DOE Reading Rooms or other public information repositories containing background information, please contact the Center for Environmental Management Information at the above address and telephone).

FOR FURTHER INFORMATION CONTACT: Letitia O'Conor, Office of Long-Term Stewardship (EM-51) on (202) 586-6570 or (202) 586-9280.

SUPPLEMENTARY INFORMATION:

Background

The Department of Energy has prepared this Long-Term Stewardship Study to comply with the terms of a settlement agreement between DOE and 38 plaintiffs [Natural Resources Defense Council, et al. v. Richardson, et al., Civ. No. 97-936 (SS) (D.D.C. December 12, 1998)]. The Study presents information and discusses issues associated with long-term stewardship. The Study defines long-term stewardship as the physical controls, institutions, information and other mechanisms needed to ensure protection of people and the environment at sites where DOE has completed or plans to complete “cleanup” (e.g., landfill closures, remedial actions, removal actions, and facility stabilization). Depending on specific circumstances, long-term stewardship could include any combination of land-use controls, monitoring, maintenance and information management.

Study Development Process

In accordance with the terms of the settlement agreement, DOE followed the Council on Environmental Quality National Environmental Policy Act (NEPA) implementing procedures for public scoping, 40 CFR § 1501.7(a)(1)-(2), and, in general, DOE's NEPA procedures for public review of environmental impact statements, 10 CFR 1021.313, even though the Study is not a NEPA document or its functional equivalent.

DOE identified the issues addressed in the Study by conducting a public scoping process, soliciting public comments on the Draft Study distributed to the public in October 2000, and considering other information from a variety of sources (both DOE and non-DOE) that have analyzed long-term stewardship. The Department received comments on the Draft Study from 50 sources, including state agencies, citizen groups, DOE advisory groups, private citizens, Tribal nations, and federal agencies. The Final Study reflects changes and clarifications made in response to those comments.

Issued in Washington D.C., October 26, 2001.
David Geiser,
Director, Office of Long-Term Stewardship, Department of Energy.

[FR Doc. 01-28150 Filed 11-8-01; 8:45 am]

BILLING CODE 6450-01-P